DEPARTMENT OF HEALTH AND HUMAN SERVICES

Administration for Children and Families

Proposed Information Collection Activity; Comment Request

Proposed Projects

Title: 45 CFR part 95, section F.

OMB No.: 0992-0005.

Description: The advance planning document (APD) process, established in the rules at 45 CFR part 95, subpart F, is the procedure by which States request and obtain approval for Federal financial participation in their cost of acquiring automatic data processing equipment and services. The APD submitted by the State Agency provides the Department of Health and Human Services (HHS) with the following information necessary to determine the State's need to acquire the requested ADP equipment and/or services:

1. A statement of need;

2. A requirements analysis and feasibility study;

3. A cost benefit analysis;

4. A proposed activity schedule; and,

5. A proposed budget.

DHHS' determination of a State agency's need to acquire requested ADP equipment of services is authorized at sections 402(a)(5), 452(a)(1), 1902(a)(4) and 1102 of the Social Security Act.

Annual Burden Estimates
Instrument | Number of respondents | Number of responses per respondent | Average burden hours per response | Total burden hours
Advance Planning Document | 50 | 1.84 | 60 | 5,520
RFP and Contract | 50 | 1.54 | 1.5 | 115.5
Emergency Funding Request | 27 | 1 | 1 | 27
Service Agreements | 14 | 1 | 1 | 14
Biennial Reports | 50 | 1 | 1.5 | 75
Estimated Total Annual Burden Hours |  |  |  | 5,751.5

Respondents

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 10, 2003.
Robert Sargis,
Reports Clearance Officer.

[FR Doc. 03-3857 Filed 2-14-03; 8:45 am]

BILLING CODE 484-01-M